ENVIRONMENTAL PROTECTION AGENCY

[EPA-HQ-OECA-2013-0298; FRL-9988-36-OEI]

Information Collection Request Submitted to OMB for Review and Approval; Comment Request; NESHAP for Industrial, Commercial, and Institutional Boilers Area Sources (Renewal)

AGENCY: Environmental Protection Agency (EPA).

ACTION: Notice.

SUMMARY: The Environmental Protection Agency (EPA) has submitted an information collection request (ICR), NESHAP for Industrial, Commercial, and Institutional Boilers Area Sources (EPA ICR No. 2253.04, OMB Control No. 2060-0668), to the Office of Management and Budget (OMB) for review and approval in accordance with the Paperwork Reduction Act. This is a proposed extension of the ICR, which was previously approved through October 31, 2018. Public comments were previously requested, via the Federal Register, on October 1, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before March 25, 2019.

ADDRESSES: Submit your comments, referencing Docket ID Number EPA-HQ-OECA-2013-0298, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The NESHAP for Industrial, Commercial, and Institutional Boilers Area Sources (40 CFR part 63, subpart JJJJJJ) affects new and existing industrial, commercial, and institutional boilers that are located at or part of area sources of hazardous air pollutants (HAP). The standard contains six subcategories: Existing boilers designed to burn biomass, coal, or liquid fuels and new boilers designed to burn biomass, coal, or liquid fuels. The information collection activities include initial and annual stack tests, fuel analyses, operating parameter monitoring, biennial tune-ups, one-time energy audits, one-time and periodic reports, and maintenance of records. Varying levels of requirements apply to each subcategory. The information collection activities will enable EPA to determine initial and continuous compliance with emission standards for regulated pollutants, and ensure that facilities conduct proper planning, operation, and unit maintenance. The provisions of Section 114(a)(1) of the Clean Air Act, 42 U.S.C. 7414(a)(1) provide the broad authority for the reporting of compliance monitoring and enforcement information, along with Subpart Q—Reports in 40 CFR 51: Sections 51.324(a) and (b), and 51.327.

Form Numbers: None.

Respondents/affected entities: Owners and operators of industrial, commercial, or institutional boilers.

Respondent's obligation to respond: Mandatory (40 CFR 63, subpart JJJJJJ).

Estimated number of respondents: 100,374 (total).

Frequency of response: Initially, biennially, semiannually and annually.

Total estimated burden: 1,830,000 hours (per year). Burden is defined at 5 CFR 1320.3(b).

Total estimated cost: Total annual labor costs are $208,000,000 (per year), and annualized capital or operation & maintenance costs are $132,000,000.

Changes in the Estimates: There is an increase in the total estimated burden previously identified in the OMB Inventory of Approved Burdens. This increase is not due to any program changes. The change in burden and cost estimates occurred because the number of respondents has increased, resulting in an increase in the number of responses and the total respondent labor hours. This ICR reflects the on-going burden and costs for existing facilities and the costs to new facilities and includes new estimates of `burden' for existing sources to refamiliarize themselves with the rule provisions each year, which is estimated at one hour per source per year. The overall result is an increase in burden hours and costs.

There is also an increase in total annual capital/startup and O&M costs as compared to the previous ICR. This increase is attributed to the fact that new facilities complying with the rules have initial compliance costs. All existing facilities will have on-going O&M costs.

Courtney Kerwin,
Director, Regulatory Support Division.

[FR Doc. 2019-03071 Filed 2-21-19; 8:45 am]

BILLING CODE 6560-50-P